DEPARTMENT OF TRANSPORTATION

Surface Transportation Board

[STB Finance Docket No. 35018]

State of Maine—Acquisition Exemption—Certain Assets of St. Lawrence & Atlantic Railroad Company

The State of Maine, acting by and through its Department of Transportation (Maine DOT), a noncarrier, has filed a verified notice of exemption under 49 CFR 1150.31 to acquire from St. Lawrence & Atlantic Railroad Company (SLR) certain right-of-way and trackage, totaling approximately 11 miles in Cumberland County, ME. The rail line (the Subject line) extends between approximately milepost 1.74 at Deering and approximately milepost 12.163 south of the diamond crossing at Yarmouth Junction.¹

¹ In the same docket, Maine DOT has simultaneously filed a joint motion to dismiss its verified notice of exemption on jurisdictional grounds. That request will be handled in a separate Board decision.

Maine DOT certifies that its projected annual revenues as a result of the transaction will not exceed those that would qualify it as a Class III rail carrier. The parties state that they intend to consummate this transaction on or before June 30, 2007, if all conditions precedent have been satisfied. The exemption is scheduled to become effective on June 6, 2007, which is 30 days from the May 7, 2007 official filing date of the notice.

Maine DOT states that it will acquire SLR's right, title and interest in the right-of-way, trackage and other physical assets associated with the Subject Line, but will not acquire the right or obligation to conduct any rail freight operations thereon. SLR will retain a permanent and exclusive easement for freight operation on the Subject Line.

If the notice contains false or misleading information, the exemption is void ab initio. Petitions to reopen the proceeding to revoke the exemption under 49 U.S.C. 10502(d) may be filed at any time. The filing of a petition to revoke will not automatically stay the transaction. Any petition for stay will be due no later than May 30, 2007 (at least 7 days before the effective date of the exemption).

An original and 10 copies of all pleadings, referring to STB Finance Docket No. 35018, must be filed with the Surface Transportation Board, 395 E Street, SW., Washington, DC 20423-0001. In addition, a copy of each pleading must be served on James E. Howard, One Thompson Square, Suite 201, Charlestown, MA 02129.

Board decisions and notices are available on our Web site at http://www.stb.dot.gov.

Decided: May 10, 2007.
By the Board, David M. Konschnik, Director, Office of Proceedings.
Vernon A. Williams,
Secretary.

[FR Doc. E7-9378 Filed 5-17-07; 8:45 am]

BILLING CODE 4915-01-P